DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested and the petitioner's arguments in favor of relief.

Mohawk Adirondack & Northern Railroad, Corp.

[Docket Number FRA-2001-9487]

The Mohawk Adirondack & Northern Railroad (MHWA) seeks to add an additional locomotive, number LBR 1951, to two previously granted waiver numbers RSGM-92-4, Safety Glazing Standards and SA-92-2, Safety Appliance Standards. Waiver number RSGM-92-4 was granted for two locomotives, number LBR 1947 and LBR 1950, which were not equipped with FRA approved glazing as required in Safety Glazing Standards [49 CFR 223.11]. Waiver number SA-92-02 was granted for two locomotives, number LBR 1947 and LBR 1950, which were not equipped with switching steps as required in the Safety Appliance Standards [49 CFR 231.30].

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-9487) and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on June 21, 2001.
Grady C. Cothen, Jr.,
Deputy Associate Administrator for Safety Standards and Program Development.

[FR Doc. 01-16279 Filed 6-27-01; 8:45 am]

BILLING CODE 4910-06-P